DEPARTMENT OF EDUCATION

Reading First Advisory Committee; Notice of Open Meeting

AGENCY: Department of Education, Office of Elementary and Secondary Education.

ACTION: Notice of open meeting.

SUMMARY: This notice sets forth the schedule and proposed agenda of the first open meeting of the Reading First Advisory Committee. The notice also describes the functions of the Committee. Notice of the meeting is required by section 10(a)(2) of the Federal Advisory Committee Act and is intended to notify the public of their opportunity to attend.

DATE AND TIME: August 20 from 10 a.m. to 3 p.m.; August 22 from 9 a.m. to 3 p.m.

ADDRESSES: The Beacon Hotel, 1615 Rhode Island Avenue, NW., Washington, DC 20036.

FOR FURTHER INFORMATION CONTACT: Deborah Spitz, Reading First Team Leader, Reading First Advisory Committee; 400 Maryland Avenue, SW., Washington, DC 20202; telephone: (202) 260-3793; fax: (202) 260-8969; e-mail: Deborah.Spitz@ed.gov.

Individuals who use a telecommunications device for the deaf (TDD) may call the Federal Information Relay Service (FRS) at 1-800-877-8339, Monday through Friday between the hours of 8 a.m. and 8 p.m., Eastern Standard Time.

SUPPLEMENTARY INFORMATION: The Reading First Advisory Committee is authorized by Sections 1203(c)(2)(a) and 1202(e)(2) of the Elementary and Secondary Education Act (ESEA) of 1965, as amended. The Committee is being established by the Department of Education to evaluate Reading First applications submitted by States, to review the progress reports that States submit after the third year of the grant period, to advise on the awarding of Targeted Assistance Grants, and to advise the Secretary on other issues that the Secretary deems appropriate.

At this meeting, members of the Committee will be sworn in and will discuss the purpose and responsibilities of the Committee. Committee members will select a Committee Chair, develop procedures for completing the tasks described in its charter, and plan future meetings. To the extent practicable, Committee members will begin the work described in the charter, including but not limited to reviewing applications for the Targeted Assistance Grants (TAG).

Individuals who will need accommodations for a disability in order to attend the meeting (e.g., interpreting services, assistance listening devices, or materials in alternative format) should notify Deborah Spitz at (202) 260-3793, no later than ten (10) days before the scheduled date of the meeting. We will attempt to meet requests for accommodations after this date but cannot guarantee their availability. The meeting site is accessible to individuals with disabilities.

Request for Written Comments: Written comments should be submitted via e-mail at least ten (10) days prior to the scheduled date of the meeting to Deborah Spitz at Deborah.Spitz@ed.gov. These comments will be shared with the members of the Committee.

Records are kept of all Committee proceedings and are available for public inspection at 400 Maryland Ave., SW., Washington, DC 20202, from the hours of 9 a.m. to 5 p.m., Eastern Standard Time, Monday through Friday.

Electronic Access to This Document: You may view this document, as well as all other documents of this Department published in the Federal Register, in text or Adobe Portable Document Format (PDF) on the Internet at the following site: http://www.ed.gov/news/fedregister/index.html.

To use PDF you must have Adobe Acrobat Reader, which is available free at this site. If you have questions about using PDF, call the U.S. Government Printing Office (GPO), toll free at 1-888-293-6498; or in the Washington, DC area at (202) 512-1530.

Note: The official version of this document is the document published in the Federal Register. Free Internet access to the official edition of the Federal Register and the Code of Federal Regulations is available on GPO Access at: http://www.gpoaccess.gov/nara/index.html.

Amanda Farris,
Deputy Assistant Secretary, The Office of Elementary and Secondary Education.

[FR Doc. 07-3758 Filed 08-1-07; 8:45 am]

BILLING CODE 4001-01-M